UNITED STATES INSTITUTE OF PEACE

Notice of Meeting

Date/Time: Friday, June 6, 2008, 9:30 a.m.-1:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: June 6, 2008 Board Meeting; Approval of Minutes of the One Hundred Twenty-Ninth Meeting (January 10, 2008) of the Board of Directors; Chairman's Report; President's Report; Selection of National Peace Essay contest winners; Other General Issues.

Contact: Tessie F. Higgs, Executive Office, Telephone: (202) 429-3836.

Dated: May 16, 2008.
Patricia P. Thomson,
Executive Vice President, United States Institute of Peace.

[FR Doc. E8-11544 Filed 5-22-08; 8:45 am]

BILLING CODE 6820-AR-P